FEDERAL COMMUNICATIONS COMMISSION

47 CFR Part 73

[DA 03-3871, MB Docket No. 03-132, RM-10709]

Radio Broadcasting Services; Oak Grove, KY, Springfield, TN, and Trenton, KY

AGENCY: Federal Communications Commission.

ACTION: Final rule.

SUMMARY: The Audio Division, at the request of Saga Communications of Tuckessee, LLC, licensee of Station WJOI-FM, reallots Channel 232A from Springfield, Tennessee to Oak Grove, Kentucky, as the community's first local aural transmission service, and modifies Station WJOI-FM license accordingly. Channel 232A can be allotted to Oak Grove, in compliance with the minimum distance separation requirement of the Commission's rules, provided there is a site restriction 9.3 kilometers (5.8 miles) east of the community. The reference coordinates for Channel 232A at Oak Grove are 36-38-23 NL and 87-20-39 WL. This document also dismisses a counterproposal filed by Saga Communications of Tuckessee, LLC that requested the reallotment of Station WJOI-FM, Channel 232A from Springfield, Tennessee to Trenton, Kentucky in lieu of Oak Grove, Kentucky.

DATES: Effective January 23, 2004.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-132 adopted December 3, 2003, and released December 8, 2003. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Kentucky, is amended by adding Oak Grove, Channel 232A.

3.Section 73.202(b), the Table of FM Allotments under Tennessee, is amended by removing Springfield, Channel 232A.

Federal Communications Commission.

John A. Karousos,
Assistant Chief, Audio Division, Media Bureau.

[FR Doc. 03-31259 Filed 12-18-03; 8:45 am]

BILLING CODE 6712-01-P